DEPARTMENT OF TRANSPORTATION

Office of the Secretary

Aviation Proceedings, Agreements Filed the Week Ending June 4, 2011

The following Agreements were filed with the Department of Transportation under the Sections 412 and 414 of the Federal Aviation Act, as amended (49 U.S.C. 1382 and 1384) and procedures governing proceedings to enforce these provisions. Answers may be filed within 21 days after the filing of the application.

Docket Number: DOT-OST-2011-0103.

Date Filed: May 31, 2011.

Parties: Members of the International Air Transport Association.

Subject: TC23/123 Europe-South West Pacific, Mail Vote 684 Adoption, Composite Resolutions 017jj & 017h, e-Tariffs, 2-20 May 2011, Intended Effective Date: 1 September 2011.

Renee V. Wright,
Program Manager, Docket Operations, Federal Register Liaison.

[FR Doc. 2011-16283 Filed 6-28-11; 8:45 am]

BILLING CODE 4910-9X-P